DEPARTMENT OF TRANSPORTATION

Office of the Secretary

Certificates of Public Convenience; Applications

Notice of Applications for Certificates Convenience and Necessity and Foreign Air Carrier Permits Filed Under Subpart Q during the Week Ending August 18, 2000. The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-200-7803.

Date Filed: August 15, 2000.

Due Date for Answers, Conforming Applications, or Motion to Modify Scope: September 5, 2000.

Description: Application of Florida Coastal Airlines, Inc. (“Florida Coastal”) pursuant to 49 U.S.C. Section 41738 and Subpart A of the Procedural Regulations and Section 204.3, applies for issuance of commuter air carrier authority to enable Florida Coastal to engage in interstate and foreign scheduled air transportation operations under Part 298 of the Department's Economic Regulations.

Docket Number: OST-2000-7815.

Date Filed: August 16, 2000.

Due Date for Answers, Conforming Applications, or Motion to Modify Scope: September 6, 2000.

Description: Application of Heartland Airlines, LLC pursuant to 49 U.S.C. Section 41102, and Subpart Q, requests a certificate of public convenience and necessity, authorizing it to engage in interstate scheduled air transportation of persons, property and mail between any point or points in the United States, its territories and possessions, or the District of Columbia, on the one hand, and any other point or points in the United States, its territories and possessions.

Dorothy Y. Beard,
Federal Register Liaison.

Application of Florida Coastal Airlines, Inc. for Authority To Conduct Scheduled Commuter Air Carrier Operations Pursuant to 49 U.S.C. § 41738; Application of Florida Coastal Airlines, Inc.

[Docket OST-00-7803-1]

August 15, 2000.

Communications with respect to this document should be sent to: Dean A. Forest, President and Chief Executive Officer, Florida Coastal Airlines, Inc., 3000 Curtis King Boulevard, Ft. Pierce, FL 34946, (561) 468-2255 (tel.), (561) 268-2209 (fax).

Notice: Under the Procedural Regulations of the Department, any interested person may file an Answer to this Application with the DOT's Docket Section and must serve all persons named on the attached Service List. Answers to this Application are due to be filed on or before August 24, 2000.

Application of Florida Coastal Airlines, Inc. for Authority To Conduct Scheduled Commuter Air Carrier Operations Pursuant to 49 U.S.C. § 41738; Application of Florida Coastal Airlines, Inc.

[Docket OST-00-__]

August 15, 2000.

Florida Coastal Airlines, Inc. (“Florida Coastal”) hereby applies, pursuant to 49 U.S.C. § 41738 of the Federal Aviation Statutes, Subpart A of the Procedural Regulations and Section 204.3 of the Economic Regulations of the Department of Transportation (the “Department”), for issuance of commuter air carrier authority to enable Florida Coastal to engage in interstate and foreign scheduled air transportation operations under Part 298 of the Department's Economic Regulations. Florida Coastal is currently engaged in on-demand passenger charter operations utilizing small aircraft pursuant to Part 298 and Part 135 of the Federal Aviation Regulations, and desires to commence scheduled operations on November 20, 2000.

In support of this Application, Florida Coastal states as follows:

Application of HeartLand Airlines, LLC for a certification of public convenience and necessity pursuant to 49 U.S.C. 41102 to engage in scheduled interstate air transportation; Application of HeartLand Airlines, LLC

[Docket OST-2000-7815-1]

August 16, 2000.

Communications with respect to this document should be sent to:

William R. Howard, Chairman and Chief Executive Officer, HEARTLAND AIRLINES, LLC, 3270 Terminal Drive, Vandalia, Ohio 45377, (937) 264-9800

Robert P. Silverberg, Esq., Michael W. Ambrose, Jr., Esq., Silverberg, Goldman & Bikoff, LLP, 1101 30th Street, NW., Suite 120, Washington, DC 20007, (202) 944-3300, rsilverberg@sgbdc.com

Attorneys for HEARTLAND AIRLINES, LLC

Any person may support or oppose this Application by filing an answer and serving a copy of the answer on all persons served with this Application on or before September 6, 2000.

OFB holding interests in the airline may change. HeartLand will update this citizenship information as warranted.

3. Authority Requested By HeartLand. HeartLand hereby requests authority to engage in interstate scheduled air transportation of persons, property and mail between any point or points in the United States, its territories and possessions, or the District of Columbia, on the one hand, and any other point or points in the United States, its territories and possessions.

4. Service Proposal. By the end of the first 12 months of operations HeartLand and its code share partner (or partners) will be conducting weekday operations in a total of fourteen nonstop Dayton city-pair markets using a total of six 717 aircraft and six J-31 or similar turboprop aircraft. HeartLand is submitting a route map identifying the weekday markets it proposes to serve or could potentially serve as Exhibit 18. Because of the commercial sensitivity of this marketing information, and because HeartLand will not commence service until June 2001, the applicant is requesting in a separate motion to withhold Exhibit 18 from public disclosure pursuant to Rule 12 of the DOT's Rules of Practice, 14 CFR § 302.12.

[FR Doc. 00-22641 Filed 9-1-00; 8:45 am]

BILLING CODE 4910-62-P